DEPARTMENT OF COMMERCE

International Trade Administration

[A-485-805]

Carbon and Alloy Seamless Standard, Line and Pressure Pipe (Under 4.5 Inches) From Romania: Partial Rescission of Antidumping Duty Administrative Review; 2017-2018

AGENCY: Enforcement and Compliance, International Trade Administration, Department of Commerce.

SUMMARY: The Department of Commerce (Commerce) is rescinding the administrative review, in part, of the antidumping duty order on carbon and alloy seamless standard, line and pressure pipe (under 4.5 inches) (small diameter seamless pipe) from Romania for the period August 1, 2017 through July 31, 2018.

DATES: Applicable March 4, 2019.

FOR FURTHER INFORMATION CONTACT: Katherine Johnson or Samantha Kinney, AD/CVD Operations, Office VIII, Enforcement and Compliance, International Trade Administration, Department of Commerce, 1401 Constitution Avenue NW, Washington, DC 20230; telephone: (202) 482-4929 or 202-482-2285 respectively.

SUPPLEMENTARY INFORMATION:

Background

On October 4, 2018, based on a timely request for review of four companies by United States Steel Corporation (the petitioner),¹ Commerce published in the Federal Register a notice of initiation of an administrative review of the antidumping duty order on small diameter seamless pipe from Romania covering the period August 1, 2017, through July 31, 2018.²

¹ See Petitioner's Letter, “Carbon and Alloy Seamless Standard Line, and Pressure Pipe (Under 4.5 Inches) from Romania: Request for Administrative Review of Antidumping Duty Order,” dated August 30, 2018.

² See Initiation of Antidumping and Countervailing Duty Administrative Reviews, 83 FR 50077 (October 4, 2018) (Initiation Notice).

On February 13, 2019, the petitioner withdrew its request for administrative review of SC TMK-Artrom S.A. (TMK-Artrom).³ No other interested parties requested an administrative review of this company.

³ See Petitioner's Letter, “Carbon and Alloy Seamless Standard Line, and Pressure Pipe (Under 4.5 Inches) from Romania: Partial Withdrawal of Request for Administrative Review of Antidumping Duty Order,” dated February 13, 2019.

Partial Rescission of Review

Pursuant to 19 CFR 351.213(d)(1), Commerce will rescind an administrative review, in whole or in part, if the party that requested the review withdraws its request within 90 days of the publication of the notice of initiation of the requested review. Commerce exercised its discretion to toll all deadlines affected by the partial Federal Government closure from December 22, 2018, through the resumption of operations on January 29, 2019.⁴ If the new deadline falls on a non-business day, in accordance with Commerce's practice, the deadline will become the next business day. In this case, the original deadline for parties to withdraw requests for administrative review of January 2, 2019, was extended prior to the partial Federal Government closure to January 9, 2019.⁵ Therefore, the revised deadline to withdraw a review request was February 19, 2019.

⁴ See Memorandum, “Deadlines Affected by the Partial Shutdown of the Federal Government,” dated January 28, 2019. All deadlines in this segment of the proceeding have been extended by 40 days.

⁵ See Commerce Letter re: Request for Extension, dated December 21, 2018.

Because the petitioner's request for administrative review of TMK-Artrom was withdrawn within 90 days of the date of publication of the Initiation Notice (as extended and tolled, per the discussion above), and no other interested party requested a review of this company, Commerce is rescinding this review with respect to TMK-Artrom, in accordance with 19 CFR 351.213(d)(1). The administrative review remains active with respect to all other companies initiated for review, i.e., ArcelorMittal Tubular Products Roman S.A.; SC Tubinox S.A.; and Silcotub S.A.

Assessment

Commerce will instruct U.S. Customs and Border Protection (CBP) to assess antidumping duties on all appropriate entries at a rate equal to the cash deposit of estimated antidumping duties required at the time of entry, or withdrawal from warehouse, for consumption, during the period August 1, 2017, through July 31, 2018, in accordance with 19 CFR 351.212(c)(1)(i). Commerce intends to issue appropriate assessment instructions to CBP 15 days after the publication of this notice in the Federal Register, if appropriate.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: February 26, 2019.
James Maeder,
Associate Deputy Assistant Secretary for Antidumping and Countervailing Duty Operations performing the duties of Deputy Assistant Secretary for Antidumping and Countervailing Duty Operations.

[FR Doc. 2019-03817 Filed 3-1-19; 8:45 am]

BILLING CODE 3510-DS-P